DEPARTMENT OF TRANSPORTATION

Federal Aviation Administration

[Docket No.: FAA-2023-0987; Summary Notice No. 2024-06]

Petition for Exemption; Summary of Petition Received; Verge, Inc. dba Verge Aero

AGENCY: Federal Aviation Administration (FAA), Department of Transportation (DOT).

ACTION: Notice.

SUMMARY: This notice contains a summary of a petition seeking relief from specified requirements of title 14 of the Code of Federal Regulations. The purpose of this notice is to improve the public's awareness of, and participation in, the FAA's exemption process. Neither publication of this notice nor the inclusion nor omission of information in the summary is intended to affect the legal status of the petition or its final disposition.

DATES: Comments on this petition must identify the petition docket number and must be received on or before February 20, 2024.

ADDRESSES: Send comments identified by docket number FAA-2023-0987 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Avi Acharya, AIR-626C, Federal Aviation Administration, at (316) 946-4192 or by email at Avishek.Acharya@faa.gov.

This notice is published pursuant to 14 CFR 11.85.

Issued in Washington, DC, on January 24, 2024.
Daniel J. Commins,
Manager, Integration and Performance Branch, Policy and Standards Division, Aircraft Certification Service.

Summary of Petition for Exemption

Docket No.: FAA-2023-0987.

Petitioner: Verge, Inc. dba Verge Aero.

Section(s) of 14 CFR Affected: § 89.515.

Description of Relief Sought: The petitioner seeks relief from the remote identification design and production requirements under 14 CFR 89.515 for the production of an uncrewed aircraft (UA) without design or production approval for light show events. If granted, the requested relief would allow Verge Aero to produce drones to be used exclusively for drone show operations without the UA complying with the minimum performance requirements for standard remote identification UA established in § 89.310. In lieu of complying with 14 CFR 89.515, the petitioner proposes to use a ground-based WiFi router network to broadcast identifying information for the fleet of UAs operated during a light show.

[FR Doc. 2024-01726 Filed 1-29-24; 8:45 am]

BILLING CODE 4910-13-P